DEPARTMENT OF ENERGY

Federal Energy Regulatory Commission

Combined Notice of Filings #1

Take notice that the Commission received the following Complaints and Compliance filings in EL Dockets:

Docket Numbers: EL21-83-001.

Applicants: PJM Interconnection, L.L.C.

Description: Compliance filing: Supplement to Regulation Market Performance-Clearing Price Credit in EL21-83 to be effective 12/31/9998.

Filed Date: 10/19/22.

Accession Number: 20221019-5046.

Comment Date: 5 p.m. ET 11/8/22.

Docket Numbers: EL23-5-000; QF21-77-001; QF20-300-001; QF22-1085-001; QF22-846-001; QF20-151-001; QF20-152-001; QF22-213-001; QF22-1086-001; QF21-1275-001; QF21-1276-001; QF21-1277-001; QF21-1273-001; QF21-451-001; QF20-546-001; QF22-918-001; QF22-917-001; QF22-1098-001; QF22-1101-001; QF22-1102-001; QF22-1103-001; QF22-1116-001; QF22-1115-001; QF22-1109-001; QF22-1114-001; QF22-1104-001; QF22-1113-001; QF22-1112-001; QF22-1111-001; QF22-1119-001; QF22-1118-001; QF22-1110-001; QF22-1117-001.

Applicants: CSU 2020 Renewable Energy, LLC, PPS School Solar, LLC, Waters Rd S, LLC, Waters Rd N, LLC, Wakefield Solar Fund, LLC, USS New Scotland 1 LLC, Turin Solar Fund, LLC, Tri-County Solar Fund 1, LLC, Mtn Solar 5 LLC, Mtn Solar 4 LLC, Mtn Solar 2 LLC, Mtn Solar 1 LLC, ECA Maine BET, LLC, CO LI CSG 3 LLC, CO LI CSG 1 LLC, Burrillville Solar, LLC, Standard Solar, Inc.

Description: Petition for Declaratory Order of Standard Solar, Inc., et al.

Filed Date: 10/18/22.

Accession Number: 20221018-5161.

Comment Date: 5 p.m. ET 11/17/22.

Take notice that the Commission received the following electric rate filings:

Docket Numbers: ER18-1639-000.

Applicants: Constellation Mystic Power, LLC.

Description: Out-Of-Time, Formal Challenges of The Eastern New England Consumer-Owned Systems to Constellation Mystic Power, LLC's, September 2022 Informational Filing.

Filed Date: 10/18/22.

Accession Number: 20221018-5158.

Comment Date: 5 p.m. ET 11/8/22.

Docket Numbers: ER18-1639-000.

Applicants: Constellation Mystic Power, LLC.

Description: The Eastern New England Consumer-Owned Systems submits Formal Challenges of Constellation Mystic Power, LLC's, September 15, 2022, Informational Filing.

Filed Date: 10/18/22.

Accession Number: 20221018-5167.

Comment Date: 5 p.m. ET 11/8/22.

Docket Numbers: ER20-1435-001.

Applicants: Energy Harbor LLC.

Description: Compliance filing: Informational Filing Regarding Planned Transfer to be effective N/A.

Filed Date: 10/19/22.

Accession Number: 20221019-5071.

Comment Date: 5 p.m. ET 11/9/22.

Docket Numbers: ER23-125-000.

Applicants: Arizona Public Service Company.

Description: § 205(d) Rate Filing: Rate Schedule No. 217, Exhibit B.GLA-GLV to be effective 12/18/2022.

Filed Date: 10/18/22.

Accession Number: 20221018-5139.

Comment Date: 5 p.m. ET 11/8/22.

Docket Numbers: ER23-126-000.

Applicants: PJM Interconnection, L.L.C.

Description: Tariff Amendment: Notice of Cancellation of WMPA, SA No. 5554; Queue No. AE1-015 to be effective 10/6/2022.

Filed Date: 10/18/22.

Accession Number: 20221018-5141.

Comment Date: 5 p.m. ET 11/8/22.

Docket Numbers: ER23-127-000.

Applicants: Arizona Public Service Company.

Description: § 205(d) Rate Filing: Rate Schedule No. 33, WAPA Triangle Agreement to be effective 12/31/2022.

Filed Date: 10/18/22.

Accession Number: 20221018-5144.

Comment Date: 5 p.m. ET 11/8/22.

Docket Numbers: ER23-128-000.

Applicants: PJM Interconnection, L.L.C.

Description: Tariff Amendment: Notice of Cancellation of WMPA, SA No. 5857; Queue No. AB2-180 to be effective 10/6/2022.

Filed Date: 10/18/22.

Accession Number: 20221018-5145.

Comment Date: 5 p.m. ET 11/8/22.

Docket Numbers: ER23-129-000.

Applicants: PJM Interconnection, L.L.C.

Description: Tariff Amendment: Notice of Cancellation of WMPA, SA No. 5553; Queue No. AE1-012 to be effective 10/6/2022.

Filed Date: 10/18/22.

Accession Number: 20221018-5146.

Comment Date: 5 p.m. ET 11/8/22.

Docket Numbers: ER23-130-000.

Applicants: New York State Electric & Gas Corporation.

Description: § 205(d) Rate Filing: NYSEG-DCEC Attachment C Annual Update to be effective 1/1/2023.

Filed Date: 10/19/22.

Accession Number: 20221019-5026.

Comment Date: 5 p.m. ET 11/9/22.

Docket Numbers: ER23-131-000.

Applicants: Midcontinent Independent System Operator, Inc., Ameren Illinois Company.

Description: § 205(d) Rate Filing: Midcontinent Independent System Operator, Inc. submits tariff filing per 35.13(a)(2)(iii: 2022-10-19_SA 3916 Ameren-Lotus Wind E&P (J1289) to be effective 11/1/2022.

Filed Date: 10/19/22.

Accession Number: 20221019-5063.

Comment Date: 5 p.m. ET 11/9/22.

Docket Numbers: ER23-132-000.

Applicants: Tri-State Generation and Transmission Association, Inc.

Description: § 205(d) Rate Filing: Amendment to FERC Rate Schedule No. 61 to be effective 12/19/2022.

Filed Date: 10/19/22.

Accession Number: 20221019-5067.

Comment Date: 5 p.m. ET 11/9/22.

Docket Numbers: ER23-133-000.

Applicants: Tri-State Generation and Transmission Association, Inc.

Description: § 205(d) Rate Filing: Initial Filing of Service Agreement No. 908 to be effective 10/6/2022.

Filed Date: 10/19/22.

Accession Number: 20221019-5069.

Comment Date: 5 p.m. ET 11/9/22.

Docket Numbers: ER23-134-000.

Applicants: Tri-State Generation and Transmission Association, Inc.

Description: § 205(d) Rate Filing: Initial Filing of Rate Schedule FERC No. 348 to be effective 9/27/2022.

Filed Date: 10/19/22.

Accession Number: 20221019-5070.

Comment Date: 5 p.m. ET 11/9/22.

Docket Numbers: ER23-135-000.

Applicants: Tri-State Generation and Transmission Association, Inc.

Description: § 205(d) Rate Filing: Amendment to Rate Schedule FERC No. 38 to be effective 12/19/2022.

Filed Date: 10/19/22.

Accession Number: 20221019-5075.

Comment Date: 5 p.m. ET 11/9/22.

Docket Numbers: ER23-136-000.

Applicants: PJM Interconnection, L.L.C.

Description: § 205(d) Rate Filing: Amendment to ISA No. 5071; Queue No. AB1-132 to be effective 4/16/2018.

Filed Date: 10/19/22.

Accession Number: 20221019-5084.

Comment Date: 5 p.m. ET 11/9/22.

Docket Numbers: ER23-138-000.

Applicants: Watlington Solar, LLC.

Description: Baseline eTariff Filing: Application for Market-Based Rate Authorization and Request for Waivers to be effective 12/19/2022.

Filed Date: 10/19/22.

Accession Number: 20221019-5104.

Comment Date: 5 p.m. ET 11/9/22.

Docket Numbers: ER23-139-000.

Applicants: Pleasant Hill Solar, LLC.

Description: Baseline eTariff Filing: Application for Market-Based Rate Authorization and Request for Waivers to be effective 12/19/2022.

Filed Date: 10/19/22.

Accession Number: 20221019-5110.

Comment Date: 5 p.m. ET 11/9/22.

Take notice that the Commission received the following qualifying facility filings:

Docket Numbers: QF21-77-000; QF20-300-000; QF22-1085-000; QF22-846-000; QF20-151-000; QF20-152-000; QF22-213-000; QF22-1086-000; QF21-1275-000; QF21-1276-000; QF21-1277-000; QF21-1273-000; QF21-451-000; QF20-546-000; QF22-918-000; QF22-917-000.

Applicants: Waters Rd S, LLC, Waters Rd N, LLC, Wakefield Solar Fund, LLC, USS New Scotland 1 LLC, Turin Solar Fund, LLC, Tri-County Solar Fund 1, LLC, Tri-County Solar Fund 1, LLC, Tri-County Solar Fund 1, LLC, Mtn Solar 5 LLC, Mtn Solar 4 LLC, Mtn Solar 2 LLC, Mtn Solar 1 LLC,ECA Maine BET, LLC,CO LI CSG 3 LLC,CO LI CSG 1 LLC, Burrillville Solar, LLC.

Description: Refund Reports of Burrillville Solar, LLC, et al.

Filed Date: 10/18/22.

Accession Number: 20221018-5159.

Comment Date: 5 p.m. ET 11/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2022.
Debbie-Anne A. Reese,
Deputy Secretary.

[FR Doc. 2022-23175 Filed 10-24-22; 8:45 am]

BILLING CODE 6717-01-P